DEPARTMENT OF THE TREASURY

Office of Thrift Supervision

Proposed Agency Information Collection Activities; Comment Request: Correction

ACTION: Notice; correction.

SUMMARY: Office of Thrift Supervision within the Department of the Treasury published a document in the Federal Register on June 19, 2001, concerning the request for comments on proposed information collection titled Merger Application, 1550-0016. An e-mail address was omitted from the document.

FOR FURTHER INFORMATION CONTACT: Nadine Washington, Office of Examination Policy, Office of Thrift Supervision, 1700 G Street, NW., Washington, DC 20552 (202) 906-6706.

Correction

In the Federal Register of June 19, 2001, in FR Doc. 01-15365, on page 32981, in the first column, line 28, after “e-mail to”, insert the following address “publicinfo@ots.treas.gov”.

Dated: June 20, 2001.
Sandra E. Evans,
Federal Register Liaison Officer.

[FR Doc. 01-15920 Filed 6-25-01; 8:45 am]

BILLING CODE 6720-01-P